CONSUMER PRODUCT SAFETY COMMISSION

Notification of Request for Extension of Approval of Information Collection Activity—Customer Satisfaction Surveys

AGENCY: Consumer Product Safety Commission.

ACTION: Notice.

SUMMARY: In the February 25, 2005 Federal Register (70 FR 9275), the Consumer Product Safety Commission (CPSC or Commission) published a notice in accordance with provisions of the Paperwork Reduction Act of 1995 (44 U.S.C. Chapter 35) (PRA), to announce the agency's intention to seek extension of its PRA approval to conduct surveys to determine the kind and quality of services CPSC customers want and customers' level of satisfaction with existing services. The Commission now announces that it has submitted to the Office of Management and Budget a request for extension of approval of that collection of information.

The Commission received one comment stating that the CPSC should obtain all requested information at the initial contact without any additional follow up on customer satisfaction. For most of the CPSC programs, it is not possible to interview the customer regarding customer satisfaction at the time of initial contact because the requested service may not yet have been performed or completed. In those circumstances, customer satisfaction may only be assessed through follow up contact after the implementation of the CPSC program.

CPSC will use the information it obtains in these surveys to improve its work on behalf of the American public. In addition, the CPSC Office of Planning and Evaluation will use information from the surveys to prepare sections of the agency's annual Performance and Accountability report (required by the Government Performance and Results Act (GPRA)). This information will provide measures of the quality and effectiveness of agency efforts related to three goals in its strategic plan (informing the public, industry services, and customer satisfaction). In the past, information from these surveys has shown an overall high level of customer satisfaction. If this information is not periodically collected, the CPSC would not have useful measures of its effectiveness in reaching consumers and others, and the information necessary to guide program development and improvement would not be available. The Commission would be unable to measure its ability to meet identified GPRA goals. CPSC will collect this information in several ways, such as using telephone interviews, as well as mail and web-based questionnaires. Up to 6 customer surveys or information collection activities a year would be conducted using this clearance.

Additional Information About the Request for Extension of Approval of Information Collection Activity

Title of information collection: Customer Satisfaction Surveys: Fast track recall survey; ombudsman survey, state partner survey, hotline survey, web site survey and clearinghouse survey.

Type of request: Extension of approval.

Frequency of collection: Each survey will be conducted once during a 3-year period.

General description of respondents: (1) Persons telephoning the Hotline or accessing the CPSC web site via the Internet; (2) persons or companies contacting the National Injury Information Clearinghouse for information; (3) State representatives who work with CPSC on cooperative programs; (4) firms using CPSC's Fast-Track Product Recall Program; and (5) small business that have contacted the CPSC's small business ombudsman.

Estimated number of respondents: 745 per year.

Estimated average number of responses per respondent: One per year.

Estimated number of responses for all respondents: 745 per year.

Estimated number of hours per response: 4 minutes.

Estimated number of hours for all respondents: 50 hours per year.

Estimated cost of collection for all respondents: $1,170 per year.

Comments: Comments on this request for extension of approval of an information collection activity should be submitted by July 8, 2005, to (1) Office of Information and Regulatory Affairs, Attn: OMB Desk Officer for CPSC, Office of Management and Budget, Washington, DC 20503; telephone: (202) 395-7340, and (2) the Office of the Secretary, Consumer Product Safety Commission, Washington, DC 20207. Comments may be delivered to the Office of the Secretary, room 419, North Tower, 4330 East-West Highway, Bethesda, Maryland, 20814. Comments may also be sent to the Office of the Secretary by facsimile at (301) 504-0127, or by e-mail at cpsc-os@cpsc.gov.

Copies of this request for approval of an information collection activity are available from Linda L. Glatz, Management & Program Analyst, Office of Planning and Evaluation, Consumer Product Safety Commission, Washington, DC 20207; telephone: (301) 504-7671.

Dated: June 1, 2005.
Todd Stevenson,
Secretary, Consumer Product Safety Commission.

[FR Doc. 05-11300 Filed 6-7-05; 8:45 am]

BILLING CODE 6355-01-P